DEPARTMENT OF COMMERCE

International Trade Administration

University of Minnesota, et al.; Notice of Consolidated Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave, NW., Washington, DC.

Comments: None received.

Decision: Approved. We know of no instruments of equivalent scientific value to the foreign instruments described below, for such purposes as this is intended to be used, that were being manufactured in the United States at the time of its order.

Docket Number: 10-025.

Applicant: University of Minnesota, Department of Chemical Engineering and Materials Science), Minneapolis, MN 55455.

Instrument: High Pressure Oxygen Sputtering System.

Manufacturer: Forschungszentrum Juelich GmbH, Germany.

Intended Use: See notice at 75 FR 34095, June 16, 2010.

Reasons: A pertinent characteristic of this instrument is that the special design of the sputter sources and vacuum chamber/pumping system allows it to operate properly at pressures in excess of 1 Torr. It also is designed to work in pure oxygen and is capable us substrate heating to over 900 C in a high pressure such an environment. We know of no instrument suited to these purposes, which was being manufactured in the United States at the time of order of this instrument.

Docket Number: 10-027.

Applicant: Argonne National Laboratory, Lemont, IL 60439.

Instrument: MultiView 400 SPM/NSOM/Confocal Multi Probe System Probe and Sample Scanning Scan Head Assembly.

Manufacturer: Nanonics Imaging Ltd., Israel.

Intended Use: See notice at 75 FR 34095, June 16, 2010.

Reasons: A unique characteristic of this system is that it has dual scanning probe heads that are independently controlled, which enable illumination and detection with sub-wavelength spatial resolution. We know of no instrument suited to these purposes, which was being manufactured in the United States at the time of order of this instrument.

Docket Number: 10-028.

Applicant: Boston College, Chestnut Hill, MA 02467.

Instrument: Infrared Mirror Furnace 4 Mirror Furnace.

Manufacturer: Crystal Systems Corp., Japan.

Intended Use: See notice at 75 FR 34095, June 16, 2010.

Reasons: A unique characteristic of this furnace is that it can synthesize extremely high quality crystals without crucible contact during growth, which prevents contamination. The instrument also allows for visual monitoring of the crystals during its growth and nucleation and can achieve heating gradients greater than 1500 Celsius per centimeter. We know of no instrument suited to these purposes, which was being manufactured in the United States at the time of order of this instrument.

Dated: July 13, 2010.
Christopher Cassel,
Director, Subsidies Enforcement Office, Import Administration.

[FR Doc. 2010-17535 Filed 7-16-10; 8:45 am]

BILLING CODE 3510-DS-P